DEPARTMENT OF ENERGY

Federal Energy Regulatory Commission

[Docket No. PR01-6-002]

Enogex Inc.; Notice of Compliance Filing

February 26, 2002.

Take notice that on February 13, 2002, Enogex Inc. (Enogex) tendered for filing a copy of its fuel percentage calculation for 2002.

Enogex states that the purpose of its filing is to comply with the settlement in Docket Nos. PR01-6-000 and PR01-6-001, approved by the Commission by a letter order dated January 30, 2002, which requires Enogex to file its fuel percentage for 2002 within 30 days of the order accepting the settlement.

Enogex further states that it has served copies of this filing upon all parties in Docket No. PR01-6-000.

Any person desiring to protest said filing should file a protest with the Federal Energy Regulatory Commission, 888 First Street, NE., Washington, DC 20426, in accordance with Section 385.211 of the Commission's Rules and Regulations. All such protests must be filed on or before March 6, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-5058 Filed 3-1-02; 8:45 am]

BILLING CODE 6717-01-P